DEPARTMENT OF COMMERCE

International Trade Administration

[A-570-865]

Certain Hot-Rolled Carbon Steel Flat Products From the People's Republic of China: Preliminary Results of Antidumping Duty Administrative Review; 2017-2018

AGENCY: Enforcement and Compliance, International Trade Administration, Department of Commerce.

SUMMARY: The Department of Commerce (Commerce) preliminarily determines that all companies subject to this administrative review of the antidumping duty (AD) order on certain hot-rolled carbon steel flat products (hot-rolled steel) from the People's Republic of China (China) are part of the China-wide entity because none filed a separate rate application (SRA) or separate rate certification (SRC). The period of review (POR) is November 1, 2017 through October 31, 2018. We invite interested parties to comment on these preliminary results.

DATES: Applicable December 30, 2019.

FOR FURTHER INFORMATION CONTACT: Matthew Renkey, AD/CVD Operations, Office V, Enforcement and Compliance, International Trade Administration, U.S. Department of Commerce, 1401 Constitution Avenue NW, Washington, DC 20230; telephone: (202) 482-2312.

SUPPLEMENTARY INFORMATION:

Background

On November 29, 2001, Commerce published in the Federal Register an antidumping duty order on hot-rolled steel from China.¹ On November 30, 2018, Nucor Corporation (Nucor) submitted a request for an administrative review of multiple companies.² On February 6, 2019, Commerce published a notice of initiation of an administrative review of the AD order on hot-rolled steel from China covering the period November 1, 2017 to October 31, 2018.³

¹ See Notice of the Antidumping Duty Order: Certain Hot-Rolled Carbon Steel Flat Products from the People's Republic of China, 66 FR 59561 (November 29, 2001) (Order).

² See Nucor's Letter, “Certain Hot-Rolled Carbon Steel Flat Products from the People's Republic of China: Request for Administrative Review,” dated November 30, 2018. Because no party is challenging the prior collapsing determination, we continue to collapse Baosteel Group Corporation, Shanghai Baosteel International Economic & Trading Co., Ltd., and Baoshan Iron and Steel Co., Ltd. (collectively, Baosteel). See Certain Hot-Rolled Carbon Steel Flat Products from the People's Republic of China: Final No Shipments Determination of Antidumping Duty Administrative Review; 2012-2013; 79 FR 67415 (November 13, 2014).

³ See Initiation of Antidumping and Countervailing Duty Administrative Reviews, 84 FR 2159 (February 6, 2019).

Scope of the Order

The products covered by the order are hot-rolled steel from China. For a complete description of the scope of the Order, see the Preliminary Decision Memorandum.⁴

⁴ See Memorandum, “Decision Memorandum for the Preliminary Results of the 2017-2018 Antidumping Duty Administrative Review: Certain Hot-Rolled Carbon Steel Flat Products from the People's Republic of China,” issued concurrently with, and hereby adopted by, this notice (Preliminary Decision Memorandum).

Methodology

Commerce is conducting this review in accordance with section 751(a)(1)(B) of the Tariff Act of 1930, as amended (the Act), and 19 CFR 351.213. For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov, and to all parties in the Central Records Unit, Room B8024 of the main Commerce building. In addition, a complete version of the Preliminary Decision Memorandum can be accessed at http://enforcement.trade.gov/frn/. The signed and electronic versions of the Preliminary Decision Memorandum are identical in content.

Preliminary Results of Review

None of the companies subject to this review filed a SRA or SRC, or made a claim of no shipments. Thus, Commerce preliminarily determines that these companies have not demonstrated their eligibility for separate rate status. As such, Commerce preliminarily determines that the companies subject to review are part of the China-wide entity.

Commerce's policy regarding conditional review of the China-wide entity applies to this administrative review.⁵ Accordingly, the non-market economy (NME) entity will not be under review unless Commerce specifically receives a request for, or self-initiates, a review of the NME entity.⁶ Because no party requested a review of the China-wide entity, and we have not self-initiated a review of the China-wide entity, the entity is not under review, and the entity's rate is not subject to change. Accordingly, the pre-existing China-wide rate of 90.83 percent will apply to the entity's entries of subject merchandise into the United States during the POR.

⁵ See Antidumping Proceedings: Announcement of Change in Department Practice for Respondent Selection in Antidumping Duty Proceedings and Conditional Review of the Nonmarket Economy Entity in NME Antidumping Duty Proceedings, 78 FR 65963, 65970 (November 4, 2013).

⁶ In accordance with 19 CFR 351.213(b)(1), parties should specify that they are requesting a review of entries from exporters comprising the entity, and to the extent possible, include the names of such exporters in their request.

In addition, Nucor submitted comments and information in support of its assertion that the data from U.S. Customs and Border Protection (CBP) released by Commerce for respondent selection purposes may be incomplete due to the failure of importers to properly report entries of subject merchandise as “Type 03” entries in order to avoid paying antidumping duties.⁷ As explained in further detail in the Preliminary Decision Memorandum, Commerce intends to refer the matter of potential misclassification and fraud to CBP.

⁷ See Nucor's Letter, “Certain Hot-Rolled Carbon Steel Flat Products from the People's Republic of China: Comments on CBP Data and Respondent Selection,” dated April 25, 2019.

Public Comment

Interested parties are invited to comment on these preliminary results and may submit case briefs and/or written comments, filed electronically via ACCESS, within 30 days after the date of publication of these preliminary results of review.⁸ Rebuttal briefs, limited to issues raised in the case briefs, must be filed within five days after the time limit for filing case briefs.⁹ Parties who submit case or rebuttal briefs in this proceeding are requested to submit with each argument a statement of the issue, a brief summary of the argument, and a table of authorities.¹⁰

⁸ See 19 CFR 351.309(c)(1)(ii).

⁹ See 19 CFR 351.309(d)(1) and (2).

¹⁰ See 19 CFR 351.309(c) and (d); see also 19 CFR 351.303 (for general filing requirements).

Interested parties who wish to request a hearing, or to participate if one is requested, must submit a written request to Commerce within 30 days of the date of publication of this notice.¹¹ Requests should contain: (1) The party's name, address, and telephone number; (2) the number of participants; and (3) a list of issues to be discussed. Issues raised in the hearing will be limited to those raised in the respective case and rebuttal briefs. If a request for a hearing is made, parties will be notified of the time and date for the hearing to be held at the U.S. Department of Commerce, 1401 Constitution Avenue NW, Washington, DC 20230.¹²

¹¹ See 19 CFR 351.310(c).

¹² See 19 CFR 310(d).

Unless otherwise extended, Commerce intends to issue the final results of this administrative review, which will include the results of our analysis of all issues raised in the case briefs, within 120 days of publication of these preliminary results in the Federal Register, pursuant to section 751(a)(3)(A) of the Act.

Assessment Rates

Upon issuance of the final results of this review, Commerce will determine, and CBP shall assess, antidumping duties on all appropriate entries of subject merchandise covered by this review.¹³ We intend to instruct CBP to liquidate entries containing subject merchandise exported by the companies under review that we determine in the final results to be part of the China-wide entity at the China-wide entity rate of 90.83 percent. Commerce intends to issue assessment instructions to CBP 15 days after the date of publication of this notice in the Federal Register.¹⁴

¹³ See 19 CFR 351.212(b)(1).

¹⁴ For a full discussion of this practice, see Non-Market Economy Antidumping Proceedings: Assessment of Antidumping Duties, 76 FR 65694 (October 24, 2011).

Cash Deposit Requirements

The following cash deposit requirements will be effective upon publication of the final results of this review for shipments of the subject merchandise from China entered, or withdrawn from warehouse, for consumption on or after the publication date, as provided by sections 751(a)(2)(C) of the Act: (1) For companies that have a separate rate, the cash deposit rate will be that established in the final results of this review (except, if the rate is zero or de minimis, then zero cash deposit will be required); (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity (i.e., 90.83 percent); and (4) for all non-Chinese exporters of subject merchandise which have not received their own rate, the cash deposit rate will be the rate applicable to the Chinese exporter that supplied that non-Chinese exporter. These deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213.

Dated: December 19, 2019.
Jeffrey I. Kessler,
Assistant Secretary for Enforcement and Compliance.

Appendix

List of Topics Discussed in the Preliminary Decision Memorandum

I. Summary

II. Background

III. Scope of the Order

IV. Discussion of the Methodology

V. Recommendation

[FR Doc. 2019-28033 Filed 12-27-19; 8:45 am]

BILLING CODE 3510-DS-P